INTERNATIONAL TRADE COMMISSION

[USITC SE-11-010]

Government in the Sunshine Act Meeting Notice

AGENCY HOLDING THE MEETING: United States International Trade Commission.

TIME AND DATE: April 28, 2011 at 11 a.m.

PLACE: Room 110, 500 E Street SW., Washington, DC 20436, Telephone: (202) 205-2000.

STATUS: Open to the public.

MATTERS TO BE CONSIDERED: 1. Agendas for future meetings: none.

2. Minutes.

3. Ratification List.

4. Vote in Inv. Nos. 701-TA-475 and 731-TA-1177 (Final) (Aluminum Extrusions from China). The Commission is currently scheduled to transmit its determinations and Commissioners' opinions to the Secretary of Commerce on or before May 13, 2011.

5. Outstanding action jackets: none.

In accordance with Commission policy, subject matter listed above, not disposed of at the scheduled meeting, may be carried over to the agenda of the following meeting. Earlier Notification of this meeting was not possible.

By order of the Commission:
Issued: April 18, 2011.
William R. Bishop,
Hearings and Meetings Coordinator.

[FR Doc. 2011-9726 Filed 4-18-11; 4:15 pm]

BILLING CODE 7020-02-P